NATIONAL SCIENCE FOUNDATION

Notice and Request for Comments

AGENCY: National Science Foundation (NSF).

ACTION: Notice and request for comments.

SUMMARY: The National Science Foundation (NSF) is announcing plans to establish this information collection request. In accordance with the Paperwork Reduction Act of 1995, and as part of its continuing effort to reduce paperwork and respondent burden, NSF is providing an opportunity for public comment on this proposed information collection request. After obtaining and considering public comment, NSF will prepare the submission requesting Office of Management and Budget (OMB) clearance of this collection.

DATES: Written comments on this notice must be received by January 23, 2023, for consideration. Comments received after that date will be considered to the extent practicable. Please send comments to the address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a Telecommunications Device for the Deaf (TDD) may call the Federal Information Relay Service (FIRS) at 1-800-877-8339, which is accessible 24 hours a day, 7 days a week, 365 days a year (including federal holidays).

SUPPLEMENTARY INFORMATION:

Title of Collection: Evaluation of NSF's Eddie Bernice Johnson INCLUDES (Inclusion across the Nation of Communities of Learners of Underrepresented Discoverers in Engineering and Science) Initiative (referred to as “INCLUDES” hereafter)

OMB Number: 3145-NEW.

Expiration Date of Approval: Not applicable.

Type of Request: Intent to seek approval to establish an information collection request to provide data necessary to evaluate the INCLUDES initiative.

Abstract: INCLUDES is a comprehensive national initiative to enhance U.S. leadership in science, technology, engineering, and mathematics (STEM) discoveries and innovations by catalyzing the STEM enterprise for inclusive change, resulting in a STEM workforce that reflects the diverse population of the Nation. The INCLUDES Initiative supports NSF's commitment to equity, inclusion, and broadening participation in the STEM fields and NSF's strategic objectives communicated in the NSF Strategic Plan for Fiscal Years (FY) 2022-2026.

More specifically, the INCLUDES initiative seeks to improve collaborative efforts for systemic change in STEM education and professions for groups that have been historically underrepresented in STEM fields. The historically underrepresented groups include African Americans/Blacks, Alaska Natives/Native Americans, Hispanics/Latinos, Native Hawaiians, and Other Pacific Islanders, persons with disabilities, persons from economically disadvantaged backgrounds, and women and girls. INCLUDES aims to enhance these historically underrepresented groups' preparation for STEM education and professions, increase their participation in the STEM workforce, and ensure their contributions in STEM.

Significant advancement in the inclusion of underrepresented groups in STEM education and professions is expected to occur through collaboration among a diverse group of institutions that support the pathways of STEM students and professionals. This type of collaboration requires a strong infrastructure to facilitate the work and enable progress toward goals. INCLUDES has established five design elements of collaborative infrastructure that are essential to funded projects: (1) shared vision; (2) partnerships; (3) goals and metrics; (4) leadership and communication; and (5) expansion, sustainability, and scale. The Shared Measures framework for the INCLUDES initiative provides a common structure for documenting funded projects' individual and collective progress toward implementing the design elements of collaborative infrastructure, and implementing systemic approaches to solving broadening participation challenges in STEM.

NSF is requesting OMB approval to collect data for the evaluation of the INCLUDES initiative. The data will be used to:

1. Evaluate the initiative's effectiveness in broadening the participation of historically underrepresented groups in STEM education and the STEM workforce.

2. Assess the maturity of Alliances in building collaborative infrastructure and the degree to which their maturity contributes to progress toward broadening participation outcomes.

3. Document the expansion, sustainability, and scale of the relationships and networks established by the initiative.

4. Examine the degree to which leadership, actions, activities, and structures are inclusive of historically underrepresented groups.

The proposed information collection will use self-completed surveys, interviews, and focus groups to obtain data essential to the evaluation. Data will be collected using:

• A national survey of representatives of the different project types funded by the INCLUDES initiative, including Alliances (the largest funded project type investment), Planning Grants, Design and Development Launch Pilots (DDLPP), Collaborative Change Consortia, Network Connectors, Conferences, and Alliance partners. Specifically, this survey will ask about the demographics of project leads, the engagement of organizations focus on serving underserved communities, the presence of the five elements of collaborative infrastructure, and the impact of the Coordination Hub. Survey data will allow the evaluation to corroborate the information with multiple representatives from each of the above types of projects and with focus group findings. The survey questionnaire will contain mostly close-ended response options with a few open-ended options. Survey findings will inform (1) the determination of the maturity of the Alliances and correlations between their maturity and broadening participation outcomes, (2) the implementation of inclusive and equity-centered practices, and (3) the assessment of the expansion, sustainability, and scale of partnerships and networks.

• Focus groups with Alliance leads and program/project beneficiaries (i.e., the individuals who are expected to gain access to STEM education and professions because of the Alliance's efforts); and leads of Planning Grants, DDLPs, Collaborative Change Consortia, Network Connectors, and Conferences. The focus groups will ask about how Alliances and their partners are inclusive and equitable in their relationships, decision-making processes, project implementation, and engagement of community stakeholders; systemic changes; and impact on program/project beneficiaries. Focus groups findings will allow the evaluation to corroborate the survey findings.

• Interviews with Coordination Hub staff to learn more about implementation outcomes. These findings will corroborate the information collected about the impact of the Hub through the survey and focus groups.

Use of the Information: The data collected will be used for NSF internal reports to inform program decision-making and internal studies of the initiative. Select information may be used for public stakeholder reports. Public reporting of evaluation findings will be in aggregate form, and any personal identifiers will be removed. Plans for public release of findings are consistent with the transparency and reproducibility principle in the NSF Evaluation Policy (https://www.nsf.gov/od/oia/eac/PDFs/nsf_evaluation_policy_september_2020.pdf, p. 3), “NSF promotes transparency in the planning, implementation, and reporting phases of evaluation activities to promote dialogue that enhances quality, enables accountability, and prevents tailoring that influences findings. Transparency is crucial to support reproducibility and contribute to advancing knowledge. Whenever possible, completed evaluations will be released in a timely manner and with sufficient detail to support use of findings (including comparability to the existing literature) and replication.”

Expected respondents: The respondents will be (1) INCLUDES Coordination Hub staff; (2) leads/representatives of Alliances and their partners; (3) program beneficiaries of the Alliances' efforts (e.g., students, faculty, and other individuals from the underrepresented groups who have access to STEM education and professions because of the Alliances); and (4) leads of Planning Grants, DDLPs, Network Connectors, Collaborative Change Consortia, and Conferences. The number of respondents every year from 2023 until 2026 will increase as INCLUDES makes new awards, grant periods conclude for each project type, and projects expand their networks. The estimated total potential respondents for the survey, interviews, and focus group are shown in Table 1.

Table 1—Estimated Number of Respondents for Each Data Collection Method
| 2023 | 2024 | 2025 | 2026 | Total
Survey | 2,000 | 2,200 | 2,400 | 2,600 | 9,200
Interviews | 6 | 6 | 6 | 6 | 24
Focus groups | 364 | 354 | 278 | 238 | 1,234

Response rates: For the survey, NSF anticipates a minimum of 50% response rate based on (1) past surveys administered by the Coordination Hub which indicated an average response rate of approximately 40% and (2) studies that suggest a minimum 60% response rate for online surveys is acceptable and reasonable to expect with multiple follow-ups to non-respondents (Fincham, 2008; Hendra & Hill, 2019). For the interviews and focus groups, NSF anticipates a minimum of 75% response rate based on qualitative research studies (Kelley et al., 2003) and 100% response rate for the Coordination Hub staff.

Estimate burden to the public: The amount of time to complete the survey will be approximately 20 minutes. NSF estimates the average annual burden for the survey will be no more than 383 hours (about 6 weeks) per year ([9,200 individuals × 50% response × 20 minutes]/4 years].

The amount of time to participate in the interviews will be approximately 60 minutes. NSF estimates the average annual burden for the evaluation will be no more than 6 hours (almost one day) per [24 individuals × 100% response × 60 minutes]/4 years).

The amount of time to participate in the focus groups will be approximately 60 minutes. NSF estimates the average annual burden for the evaluation will be no more than 231 hours (about 4 weeks) per year ([1,234 individuals × 75% response × 60 minutes]/4 years).

Comments: Written comments are invited on: (a) whether the proposed collection of information is necessary for the proper performance of the functions of NSF, including suggestions on increasing the practical utility of the information; (b) the accuracy of NSF's estimate of the burden of the proposed collection of information; (c) ways to enhance the quality, utility, and clarity of the information to be collected; and (d) ways to minimize the burden of the collection of information on those who are to respond, including through the use of automated collection techniques or other forms of information technology.

Please submit one copy of your comments by only one method. All submissions received must include the agency name and collection name identified above for this information collection. Commenters are strongly encouraged to transmit their comments electronically via email. Comments, including any personal information provided become a matter of public record. They will be summarized and/or included in the request for Office of Management and Budget approval of the information collection request.

References

Fincham, J. (2008). Response rates and responsiveness for surveys, standards, and the Journal. American Journal of Pharmaceutical Education, 72(2), 1-3.

Hendra, R. & Hill, A. (2019). Rethinking response rates: New evidence of little relationship between survey response rates and nonresponse bias. Evaluation Review, 43(5), 307-330.

Kelley, K., Clark, B., Brown, V., & Sitzia, J. (2003). Good practice in the conduct and reporting of survey research. International Journal for Quality in Health Care, 15(3), 261-266.

Dated: November 17, 2022.
Suzanne H. Plimpton,
Reports Clearance Officer, National Science Foundation.

[FR Doc. 2022-25490 Filed 11-22-22; 8:45 am]

BILLING CODE 7555-01-P